DEPARTMENT OF AGRICULTURE

Food and Nutrition Service

Special Supplemental Nutrition Program for Women, Infants and Children (WIC): Income Eligibility Guidelines

Correction

In notice document 2013-6547 appearing on pages 17631-17632 in the issue of Friday, March 22, 2013, make the following correction:

On page 17632, the table should appear as follows:

[FR Doc. C1-2013-06547 Filed 3-28-13; 8:45 am]

BILLING CODE 1505-01-D